ENVIRONMENTAL PROTECTION AGENCY

[FRL-8493-7]

Notice of Public Workshop to Discuss Management of Underground Injection of Carbon Dioxide for Geologic Sequestration Under the Safe Drinking Water Act

AGENCY: Environmental Protection Agency.

ACTION: Notice of public workshop.

SUMMARY: The Environmental Protection Agency (EPA) is holding a public workshop to discuss the development of proposed regulations for the underground injection of carbon dioxide for geologic sequestration under the Safe Drinking Water Act (SDWA). SDWA requires EPA to protect underground sources of drinking water from contamination due to underground injection activities. The Underground Injection Control Program works with States and Tribes to oversee underground injection activities and prevent endangerment of drinking water sources. This public workshop will provide an opportunity for dialogue with representatives from industry, government, public interest groups, and the general public on geologic sequestration of carbon dioxide. The Agency plans to hold a second workshop in early 2008.

DATES: This public workshop will be held from 12 p.m. to 5:30 p.m., Eastern time, on Monday, December 3, 2007, and from 8:30 a.m. to 4 p.m. on Tuesday, December 4, 2007. To RSVP for the workshop, please contact Kate Zimmer at RESOLVE at kzimmer@resolv.org. Please RSVP by November 21, 2007.

ADDRESSES: The workshop will be held at the Hotel Washington. The hotel is located at the corner of Pennsylvania Ave. and 15th St., NW., two blocks from the Metro Center Station. The hotel's telephone number is (202) 638-5900.

FOR FURTHER INFORMATION CONTACT: For general information about the workshop, please contact Mary Rose (Molly) Bayer by phone at (202) 564-1981, by e-mail at bayer.maryrose@epa.gov , or by mail at: U.S. Environmental Protection Agency, Mail Code 4606M, 1200 Pennsylvania Ave., NW., Washington, DC 20460.

SUPPLEMENTARY INFORMATION: The purpose of this workshop is to share information about EPA's rulemaking process, provide an opportunity for dialogue between EPA and stakeholders on geologic sequestration of carbon dioxide under the Safe Drinking Water Act, and identify key questions and considerations that will help inform a regulatory framework. A second two-day workshop is being planned for early 2008 and notification will be posted in a separate FR Notice.

Special Accommodations:

For information on access or services for individuals with disabilities, please contact Mary Rose (Molly) Bayer at (202) 564-1981 or bayer.maryrose@epa.gov. To request accommodation of a disability, please contact Mary Rose Bayer, preferably at least 10 days prior to the meeting, to give EPA as much time as possible to process your request.

Dated: November 2, 2007.
Cynthia C. Dougherty,
Director, Office of Ground Water and Drinking Water.

[FR Doc. E7-21931 Filed 11-7-07; 8:45 am]

BILLING CODE 6560-50-P